SMALL BUSINESS ADMINISTRATION

Small Business Size Standards: Waiver of the Nonmanufacturer Rule

AGENCY: U.S. Small Business Administration.

ACTION: Notice of Waiver to the Nonmanufacturer Rule for Woven and Knit impregnated with Flat Dipped Rubber/Plastic Gloves.

SUMMARY: The U. S. Small Business Administration (SBA) is granting a class waiver of the Nonmanufacturer Rule for Woven and Knit impregnated with Flat Dipped Rubber/Plastic Gloves, under North American Industry Classification System (NAICS) code 315992 (Glove and Mitten Manufacturing). The basis for the waiver is that no small business manufacturers are supplying this class of products to the Federal government. The effect of this waiver will be to allow otherwise qualified small businesses to supply the products of any manufacturer on a Federal contract set aside for small businesses, Service-Disabled Veteran-Owned (SDVO) small businesses, Participants in SBA's 8(a) Business Development (BD) Program, or Women-Owned Small Business (WOSB) concerns.

DATES: This waiver is effective November 22, 2010.

FOR FURTHER INFORMATION CONTACT: Ms. Amy Garcia, Procurement Analyst, by telephone at (202) 205-6842; by FAX at (202) 481-1630; or by e-mail at amy.garcia@sba.gov.

SUPPLEMENTARY INFORMATION: Section 8(a)(17) of the Small Business Act (Act), 15 U.S.C. 637(a)(17), and SBA's implementing regulations require that recipients of Federal supply contracts set aside for small businesses, SDVO small businesses, Participants in the SBA's 8(a) BD Program, or WOSBs, provide the product of a small business manufacturer or processor, if the recipient is other than the actual manufacturer or processor of the product. This requirement is commonly referred to as the Nonmanufacturer Rule. 13 CFR 121.406(b), 125.15(c), 127.505. Section 8(a)(17)(b)(iv) of the Act authorizes SBA to waive the Nonmanufacturer Rule for any “class of products” for which there are no small business manufacturers or processors available to participate in the Federal market.

In order to be considered available to participate in the Federal market for a class of products, a small business manufacturer must have submitted a proposal for a contract solicitation or received a contract from the Federal Government within the last 24 months. 13 CFR 121.1202(c). The SBA defines “class of products” based on the Office of Management and Budget's NAICS.

The SBA received a request on August 13, 2010, to waive the Nonmanufacturer Rule for Woven and Knit impregnated with Flat Dipped Rubber/Plastic Gloves under PSC 9999 (Miscellaneous), NAICS code 315992 (Glove and Mitten Manufacturing).

On August 27, 2010, SBA published in the Federal Register a notice of intent to waive the Nonmanufacturer Rule for the above listed item. 75 FR 38156 (2010). SBA explained in the notice that it was soliciting comments and sources of small business manufacturers of this class of products. No comments were received in response to this notice. In addition, SBA conducted market research using the Dynamic Small Business Search database and no small business manufacturers that participate in the Federal market were identified. Lastly, on September 16, 2010, SBA posted a Sources Sought notice on http://www.fbo.gov that it was soliciting comments and sources of small business manufacturers of this class of products. One comment was received from a small business distributor, not a small business manufacturer of this type of product. Thus, SBA has determined that there are no small business manufacturers of this classes of product, and is therefore granting the waiver of the Nonmanufacturer Rule for Woven and Knit impregnated with Flat Dipped Rubber/Plastic Gloves, under NAICS code 315992 (Glove and Mitten Manufacturing).

Karen Hontz,
Director, Office of Government Contracting.

[FR Doc. 2010-28060 Filed 11-4-10; 8:45 am]

BILLING CODE 8025-01-P